DEPARTMENT OF HEALTH AND HUMAN SERVICES

National Institutes of Health

Proposed Collection; 60-Day Comment Request; Chimpanzee Research Use Form (Office of the Director)

AGENCY: National Institutes of Health, HHS.

ACTION: Notice.

SUMMARY: In compliance with the requirement of the Paperwork Reduction Act of 1995 to provide opportunity for public comment on proposed data collection projects, the Office of Laboratory Animal Welfare (OLAW), Office of the Director (OD), National Institutes of Health (NIH), will publish periodic summaries of proposed projects to be submitted to the Office of Management and Budget (OMB) for review and approval.

DATES: Comments regarding this information collection are best assured of having their full effect if received by April 20, 2026.

FOR FURTHER INFORMATION CONTACT: To obtain a copy of the data collection plans and instruments, submit comments in writing, or request more information on the proposed project, contact: Jane J. Na, Director, Division of Assurances, Office of Laboratory Animal Welfare, NIH, or call non-toll-free number (301) 496-7163 or email your request, including your address to: olawdoa@mail.nih.gov. Formal requests for additional plans and instruments must be requested in writing.

SUPPLEMENTARY INFORMATION: Section 3506(c)(2)(A) of the Paperwork Reduction Act of 1995 requires: written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Proposed Collection Title: Chimpanzee Research Use Form, 0925-0705, exp., date 7/31/2026, EXTENSION, Office of Laboratory Animal Welfare (OLAW), Office of the Director (OD), National Institutes of Health (NIH).

Need and Use of Information Collection: The purpose of this form is to continue to obtain information needed by the NIH to assess whether the proposed research satisfies the agency's policy for permitting only noninvasive research involving chimpanzees. The NIH will consider the information submitted through this form prior to the agency making funding decisions or otherwise allowing the research to begin. Completion of this form is a mandatory step toward continuing to receive NIH support or approval for noninvasive research involving chimpanzees. The NIH does not fund any research involving chimpanzees proposed in new or other competing projects (renewals or revisions) unless the research is consistent with the definition of “noninvasive research,” as described in the “Standards of Care for Chimpanzees Held in the Federally Supported Chimpanzee Sanctuary System” (42 CFR part 9). Also see NOT-OD-16-095 at https://grants.nih.gov/grants/guide/notice-files/NOT-OD-16-095.html and 81 FR 6873. OMB approval is requested for three years. There are no costs to respondents other than their time. The total estimated annualized burden hours are 15.

Estimated Annualized Burden Hours
Form name | Type of respondent | Number of respondents | Number of responses per respondent | Average burden per response (in hours) | Total annual burden hours
Chimpanzee Research Use Form | Research Community | 30 | 1 | 30/60 | 15
Total |  |  | 30 |  | 15

Dated: February 10, 2026.
Jon Lorsch,
Acting NIH Deputy Director for Extramural Research, National Institutes of Health.

[FR Doc. 2026-03214 Filed 2-18-26; 8:45 am]

BILLING CODE 4140-01-P